SMALL BUSINESS ADMINISTRATION

[Disaster Declaration # 18086 and # 18087; NEW JERSEY Disaster Number NJ-00075]

Administrative Disaster Declaration of a Rural Area for the State of New Jersey

AGENCY: U.S. Small Business Administration.

ACTION: Notice.

SUMMARY: This is a notice of an Administrative disaster declaration of a rural area for the State of New Jersey dated 08/18/2023.

Incident: Severe Storm and Flooding.

Incident Period: 07/14/2023 through 07/15/2023.

DATES: Issued on 08/18/2023.

Physical Loan Application Deadline Date: 10/17/2023.

Economic Injury (EIDL) Loan Application Deadline Date: 05/20/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the Administrator's disaster declaration of a rural area, applications for disaster loans may be filed at the address listed above or other locally announced locations.

The following areas have been determined to be adversely affected by the disaster:

Primary Counties: Warren.

The Interest Rates are:

| Percent
For Physical Damage:
Homeowners with Credit Available Elsewhere | 5.000
Homeowners without Credit Available Elsewhere | 2.500
Business with Credit Available Elsewhere | 8.000
Business without Credit Available Elsewhere | 4.000
Non-Profit Organizations with Credit Available Elsewhere | 2.375
Non-Profit Organizations without Credit Available Elsewhere | 2.375
For Economic Injury:
Businesses & Small Agricultural Cooperatives without Credit Available Elsewhere | 4.000
Non-Profit Organizations without Credit Available Elsewhere | 2.375

The number assigned to this disaster for physical damage is 18086 6 and for economic injury is 18087 0.

(Catalog of Federal Domestic Assistance Number 59008)

Isabella Guzman,
Administrator.

[FR Doc. 2023-18315 Filed 8-24-23; 8:45 am]

BILLING CODE 8026-09-P